DEPARTMENT OF COMMERCE

National Oceanic and Atmospheric Administration

50 CFR Part 600

[I.D. 041801B]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has received a proposal to conduct experimental fishing and has made a preliminary determination that the subject EFP application contains all the required information and warrants further consideration. A preliminary determination has also been made that the activities authorized under the EFP will be consistent with the goals and objectives of the Northeast Multispecies Fishery Management Plan (FMP) and within the scope of earlier analyses of impacts. However, further review and consultation may be necessary before a final determination is made to issue an EFP. Therefore, NMFS announces that the Regional Administrator is considering whether to issue an EFP that would allow a single vessel to conduct fishing operations otherwise restricted by regulations governing the fisheries of the Northeastern United States. The University of Massachusetts at Dartmouth and Manomet Center for Conservation Sciences (Manomet) have submitted an application for an EFP to allow them to target multispecies in order to investigate the selectivity of various shapes and sizes of knotless trawl mesh, and the selectivity of finfish excluder grates with two different bar-spacings and configurations.

DATES: Comments must be received by May 15, 2001.

ADDRESSES: Comments should be sent to Patricia Kurkul, Regional Administrator, NMFS, Northeast Regional Office, One Blackburn Drive, Gloucester, MA 01930. Mark on the outside of the envelope “Comments on Proposed Experimental Fishery.”

FOR FURTHER INFORMATION CONTACT: Tom Warren, Fishery Management Specialist, 978-281-9347.

SUPPLEMENTARY INFORMATION: The regulations that govern exempted experimental fishing, at 50 CFR 600.745, allow the Regional Administrator to authorize for certain purposes the targeting or incidental harvest of managed species that would otherwise be prohibited. An EFP to authorize such activity may be issued, provided there is adequate opportunity for the public to comment on the EFP application, and the conservation goals and objectives of the FMP are not compromised.

The University of Massachusetts at Dartmouth and Manomet, submitted to NMFS on April 5, 2001, an application for an EFP to conduct research in the multispecies fishery on Georges Bank. The research would target multispecies in the Georges Bank Seasonal Closure area, with the objective of investigating the selectivity of various shapes and sizes of knotless trawl mesh, and the selectivity of finfish excluder grates with two different bar-spacings and configurations. Specifically, the research would utilize a standard 6.0-inch (15.3-cm) diamond mesh as control, and compare its selectivity to 6.5-inch (16.5-cm) hexagon, 6.5-inch (16.5-cm) square, and 6.0-inch (15.3-cm) hexagon, knotless mesh. The two configurations of finfish excluder grates to be tested on separate tows would be horizontal bars spaced at 3 inches (7.6-cm) and vertical bars spaced at 4 inches (10.2-cm). A double cod-end trawl design will be utilized on both the mesh and excluder grate trials. The goal of the research is to develop trawl gear designed to target flatfish that allows greater escapement of gadoids (e.g., cod and haddock), than the flatfish trawls that are currently utilized by the industry.

A single vessel would be issued an EFP to allow a total of 42 tows. EFPs would be required to exempt the vessel from the Days-at-Sea, closed area, and mesh restrictions of the FMP. The proposed timing and location of the research, and the applicant’s justification for requesting an exemption to the Georges Bank Seasonal Closure Area is that the relatively high numbers of flatfish and gadoids that are available in that area would allow conclusive results to be obtained in a cost-effective manner. The applicant estimates that the research will take 6 to 8 days to complete.

Authority: 16 U.S.C. 1801 et seq.

Dated: April 24, 2001.
Bruce C. Morehead,
Acting Director, Office of Sustainable Fisheries, National Marine Fisheries Service.

[FR Doc. 01-10653 Filed 4-27-01; 8:45 am]

BILLING CODE 3510-22-S